DEPARTMENT OF DEFENSE

Office of the Secretary

[Transmittal No. 15-75]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Heather N. Harwell, DSCA/LMO, (703) 697-9217.

The following is a copy of a letter to the Speaker of the House of Representatives, Transmittal 15-75 with attached Policy Justification.

Dated: March 14, 2016.
Aaron Siegel,
Alternate OSD Federal Register Liaison Officer, Department of Defense.

BILLING CODE 5001-06-P

BILLING CODE 5001-06-C

Transmittal No. 15-75

Notice of Proposed Issuance of Letter of Offer Pursuant to Section 36(b)(1) of the Arms Export Control Act, as amended

(i) Prospective Purchaser: Jordan

(ii)

Total Estimated Value: |
Major Defense Equipment * | $ 0 million
Other | $115.1 million
Total | $115.1 million

(iii) Description and Quantity or Quantities of Articles or Services under Consideration for Purchase:

Scheduled and unscheduled depot module maintenance, in addition to Augmenter Module support, for fifty-two (52) F100-PW-220E F-16 A/B (Block 15) Engines.

(iv) Military Department: USAF (QCC)

(v) Prior Related Cases, if any: FMS Case: JO-D-QAW-17 APR 12-$14M

(vi) Sales Commission, Fee, etc., Paid, Offered, or Agreed to be Paid: None

(vii) Sensitivity of Technology Contained in the Defense Article or Defense Services Proposed to be Sold: None

(viii) Date Report Delivered to Congress: 25 February 2016

* as defined in Section 47(6) of the Arms Export Control Act.

POLICY JUSTIFICATION

Jordan—Repair and Return of F-16 Engines, Sustainment and Support

The Government of Jordan has requested approval to amend its F-16 engine program for repair and return of its F100-PW-220E engine modules. This effort is in support of the Royal Jordanian Air Force's ongoing scheduled maintenance activities for its 52 F100-PW-220E engines. Services requested under this proposed sale include contract support for parts, components, accessories, and labor to remanufacture the current propulsion fleet at scheduled maintenance intervals. There is no Major Defense Equipment associated with this case. The overall total estimated value is $115.1 million.

The proposed sale will contribute to the foreign policy and national security of the United States by helping to improve the security of a friendly country which has been, and continues to be, an important force for political stability and economic progress in the Middle East. Jordan is a key partner in the coalition working together to defeat Islamic State in Iraq and Levant (ISIL) forces. This engine and sustainment program will maintain Jordan's fighter aircraft capabilities and support its national defense. Jordan will have no difficulty absorbing this support.

The proposed sale of this equipment, services, and support will not alter the basic military balance in the region.

Jordan has accounted for the cost of engine sustainment in its budget over the course of multiple years.

The prime contractor will be Pratt and Whitney, East Hartford, Connecticut. There are no known offset agreements proposed in connection with this potential sale.

Implementation of this proposed sale will entail periodic Program Management Reviews in the United States or Jordan. There are no additional U.S. Government or contractor representatives anticipated to be stationed in Jordan as a result of this potential sale.

There will be no adverse impact on U.S. defense readiness as a result of this proposed sale.

[FR Doc. 2016-06010 Filed 3-16-16; 8:45 am]

BILLING CODE 5001-06-P